DEPARTMENT OF COMMERCE

National Oceanic and Atmospheric Administration

RIN 0648-XB92

Fisheries of the Southeast Region; Overfishing Determination of South Atlantic Vermilion Snapper and South Atlantic Gag; Determination of South Atlantic Gag Approaching an Overfished Condition

AGENCY: National Marine Fisheries Service (NMFS), National Oceanic and Atmospheric Administration (NOAA), Commerce.

ACTION: Notification of determination of overfishing and approaching an overfished condition.

SUMMARY: This action serves as a notice that NMFS, on behalf of the Secretary of Commerce (Secretary), has determined that South Atlantic gag is undergoing overfishing and is approaching an overfished condition and that South Atlantic vermilion snapper is also experiencing overfishing. NMFS notified the South Atlantic Fishery Management Council (Council) of its determination by letter. The Council is required to take action within 1 year following notification by NMFS that overfishing is occurring, a stock is approaching overfishing, a stock is overfished, a stock is approaching an overfished condition, or existing remedial action taken to end overfishing or rebuild an overfished stock has not resulted in adequate progress.

FOR FURTHER INFORMATION CONTACT: Debra Lambert, telephone: (301) 713-2341.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS sends written notification to fishery management councils when overfishing is occurring, a stock is approaching overfishing, a stock is overfished, a stock is approaching an overfished condition, or existing action taken to end previously identified overfishing or rebuilding a previously identified overfished stock or stock complex has not resulted in adequate progress. On June 12, 2007, the NMFS Southeast Regional Administrator sent a letter notifying the Council that South Atlantic gag is undergoing overfishing and approaching an overfished condition and that South Atlantic vermilion snapper is also experiencing overfishing.

A copy of the notification letter sent to the Council for the aforementioned determination is available at http://www.nmfs.noaa.gov/sfa/statusoffisheries/SOSmain.htm.

Within 1 year of a notification under Magnuson-Stevens Act sections 304(e)(2) or (e)(7), the respective Council must take remedial action in response to the notification, to end overfishing if overfishing is occurring; rebuild an overfished stock or stock complex to the abundance that can produce maximum sustainable yield within an appropriate time frame; prevent overfishing from occurring if a stock is approaching overfishing; and/or prevent a stock from becoming overfished if it is approaching an overfished condition (see implementing regulations at 50 CFR 600.310(e)(3)). Such action must be submitted to NMFS within 1 year of notification and may be in the form of a new fishery management plan (FMP), an FMP amendment, or proposed regulations.

Dated: August 27, 2007.
Emily H. Menashes,
Acting Director, Office of Sustainable Fisheries, National Marine Fisheries Service.

[FR Doc. E7-17335 Filed 8-31-07; 8:45 am]

BILLING CODE 3510-22-S